DEPARTMENT OF COMMERCE

International Trade Administration

[A-122-838]

Notice of Postponement of Preliminary Antidumping Duty Determination: Certain Softwood Lumber Products From Canada

AGENCY: Import Administration, International Trade Administration, Department of Commerce.

EFFECTIVE DATE: July 30, 2001.

FOR FURTHER INFORMATION CONTACT: Valerie Ellis or Constance Handley, Office 5, Group II, Import Administration, International Trade Administration, U.S. Department of Commerce, 14th Street and Constitution Avenue NW., Washington, DC 20230; telephone (202) 482-2336, or (202) 482-0631, respectively.

Postponement of Preliminary Determination: The Department of Commerce (the Department) is postponing the preliminary determination in the antidumping duty investigation of certain softwood lumber products from Canada. The deadline for issuing the preliminary determination in this investigation is being postponed until September 24, 2001.

On April 23, 2001, the Department initiated an antidumping investigation of certain softwood lumber products from Canada. See Initiation of Antidumping Duty Investigation: Certain Softwood Lumber Products from Canada, 66 FR 21328 (April 30, 2001). The notice stated that the Department would issue its preliminary determination no later than 140 days after the date of initiation (i.e., September 10, 2001).

Pursuant to Section 733(c)(1) of the Tariff Act of 1930, as amended, (the Act), on July 13, 2001, the petitioners filed a request that the Department postpone the preliminary determination in this investigation by two weeks. The petitioners' request for postponement was timely, and the Department finds no compelling reason to deny the request. Therefore, in accordance with section 733(c)(1) of the Act, the Department is postponing the deadline for issuing this preliminary determination until September 24, 2001.

This postponement is in accordance with section 733(c) of the Act and 19 CFR 351.205(b)(2).

Dated: July 24, 2001.
Faryar Shirzad,
Assistant Secretary for Import Administration.

[FR Doc. 01-18936 Filed 7-27-01; 8:45 am]

BILLING CODE 3510-DS-P